DEPARTMENT OF DEFENSE

Department of the Air Force

Federal Property Suitable for Exchange

AGENCY: Department of the Air Force, Air Force Real Property Agency.

ACTION: Notice.

Authority: Title 10, United States Code, Section 2869(d)(1).

SUMMARY: This notice identifies unutilized, underutilized, excess, and surplus Federal property under the administrative jurisdiction of the United States Air Force that the Air Force intends to exchange for property beneficial to the Air Force.

FOR FURTHER INFORMATION CONTACT: Kelli Britt, Air Force Real Property Agency (AFRPA), 1700 N. Moore St., Suite 2300, Arlington, VA 22209-2802; telephone (703) 696-5514, (this telephone number is not toll-free).

SUPPLEMENTARY INFORMATION: In accordance with 10 U.S.C. 2869(d)(2), the Air Force is publishing this Notice to identify Federal real property that the Air Force has reviewed for suitability to dispose of in exchange for property beneficial to the Air Force. The property was screened within the Department of Defense (DoD) and no DoD agencies have expressed an interest in the property.

The Air Force reviewed the property: Charleston Air Force Base (AFB), South Carolina.

Property Number: 18200540004.

Status: Excess.

Comments: 5.348 acres of real property outside the clear zone.

And will exchange this property for: Property owned by South Carolina Electric and Gas.

Comments: 13.052 acres of real property within the Charleston AFB clear zone.

Bao-Anh Trinh,
Air Force Federal Register Liaison Officer.

[FR Doc. E7-17182 Filed 8-29-07; 8:45 am]

BILLING CODE 5001-05-P